DEPARTMENT OF TRANSPORTATION

Federal Aviation Administration

Notice of Opportunity for Public Comment on Surplus Property Release at Northeast Alabama Regional Airport, Gadsden, AL

AGENCY: Federal Aviation Administration (FAA), DOT.

ACTION: Notice of intenet to rule on land release request.

SUMMARY: Under the provisions of Title 49, U.S.C. Section 47153(c), notice is being given that the FAA is considering a request from the Gadsden Airport Authority to waive the requirement that a 24.4-acre parcel of surplus property, located at the Northeast Alabama Regional Airport, be used for aeronautical purposes.

DATES: Comments must be received on or before September 20, 2006.

ADDRESSES: Comments on this notice may be mailed or delivered in triplicate to the FAA at the following address: Jackson Airports District Office, 100 West Cross Street, Suite B, Jackson, MS 39208-2307.

In addition, one copy of any comments submitted to the FAA must be mailed or delivered to Mr. Fred Sington, Gadsden Airport Authority at the following address: P.O. Box 961, Gadsden, Alabama 35902-0961.

FOR FURTHER INFORMATION CONTACT: Mr. Keafur Grimes, Program Manager, Jackson Airports District Office, 100 West Cross Street, Suite B, Jackson, MS 39208-2307, (601) 664-9886. The land release request may be reviewed in person at this same location.

SUPPLEMENTARY INFORMATION: The Faa is reviewing a request by the Gadsden Airport Authority to release 24.4 acres of surplus property at the Northeast Alabama Regional Airport. The property will be purchased by Rigid Building, which is a industrial facility. The property consist of forested lands. The net proceeds from the sale of this property will be used for airport purposes.

Any person may inspect the request in person at the FAA office listed above under FOR FURTHER INFORMATION CONTACT.

In addition, any person may, upon request, inspect the request, notice and other documents germane to the request in person at the Jackson Airport District Office.

Issued in Jackson, Mississippi, on August 15, 2006.
Rans D. Black,
Manager, Jackson Airports District Office, Southern Region.

[FR Doc. 06-7058 Filed 8-18-06; 8:45 am]

BILLING CODE 4910-13-M